DEPARTMENT OF HEALTH AND HUMAN SERVICES

National Institutes of Health

National Institute of Biomedical Imaging and Bioengineering; Amended Notice of Meeting

Notice is hereby given of a change in the meeting of the National Institute of Biomedical Imaging and Bioengineering Special Emphasis Panel, October 3, 2013, 8:30 a.m. to 5:00 p.m., National Institutes of Health, Two Democracy Plaza, Suite 920, 6707 Democracy Boulevard, Bethesda, MD 20892, which was published in the Federal Register on June 21, 2013, 78 FR 37557.

The meeting notice is amended to change the date from October 3, 2013, to November 4-6, 2013. The time and location remains the same. The meeting is closed to the public.

Dated: October 23, 2013.
David Clary,
Program Analyst, Office of Federal Advisory Committee Policy.

[FR Doc. 2013-25469 Filed 10-28-13; 8:45 am]

BILLING CODE 4140-01-P